DEPARTMENT OF TRANSPORTATION

Federal Aviation Administration

14 CFR Part 71

[Docket No. FAA-2020-0937; Airspace Docket No. 20-AEA-11]

RIN 2120-AA66

Amendment of the Class D and Class E Airspace and Establishment of Class E Airspace; Niagara Falls and Buffalo, NY

AGENCY: Federal Aviation Administration (FAA), DOT.

ACTION: Final rule.

SUMMARY: This action amends the Class D airspace and Class E airspace at Niagara Falls International Airport, Niagara Falls, NY, and amends and establishes Class E airspace extending upward from 700 feet above the surface at Buffalo, NY. This action is the result of airspace reviews conducted to support new instrument procedures being implemented at Buffalo-Lancaster Regional Airport, Lancaster, NY. The names and geographic coordinates of airports and navigational aids are also being updated to coincide with the FAA's aeronautical database.

DATES: Effective 0901 UTC, December 29, 2022. The Director of the Federal Register approves this incorporation by reference action under 1 CFR part 51, subject to the annual revision of FAA Order 7400.11 and publication of conforming amendments.

ADDRESSES: FAA Order 7400.11G, Airspace Designations and Reporting Points, and subsequent amendments can be viewed online at https://www.faa.gov/air_traffic/publications/. For further information, you can contact the Airspace Policy Group, Federal Aviation Administration, 800 Independence Avenue SW, Washington, DC 20591; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class D airspace, the Class E surface area, and the Class E airspace extending upward from 700 feet above the surface at Niagara Falls International Airport, Niagara Falls, NY; amends the Class E airspace extending upward from 700 feet above the surface at Buffalo Niagara International Airport, Buffalo, NY, and Akron Airport/Jesson Field, Akron, NY, contained within the Buffalo, NY, airspace legal description; and establishes Class E airspace extending upward from 700 feet above the surface at Buffalo-Lancaster Regional Airport, Lancaster, NY, which is contained within the Buffalo, NY, airspace legal description, to support instrument flight rule operations at these airports.

History

The FAA published a notice of proposed rulemaking (NPRM) in the Federal Register (85 FR 70089; November 4, 2020) for Docket No. FAA-2020-0937 to amend the Class D airspace and Class E airspace at Niagara Falls International Airport, Niagara Falls, NY, and amend and establish Class E airspace extending upward from 700 feet above the surface at Buffalo, NY. Interested parties were invited to participate in this rulemaking effort by submitting written comments on the proposal to the FAA. No comments were received.

Class D and E airspace designations are published in paragraph 5000, 6002, and 6005, respectively, of FAA Order 7400.11G, dated August 19, 2022, and effective September 15, 2022, which is incorporated by reference in 14 CFR 71.1. The Class D and E airspace designations listed in this document will be published subsequently in the Order.

Availability and Summary of Documents for Incorporation by Reference

This document amends FAA Order 7400.11G, Airspace Designations and Reporting Points, dated August 19, 2022, and effective September 15, 2022. FAA Order 7400.11G is publicly available as listed in the ADDRESSES section of this document. FAA Order 7400.11G lists Class A, B, C, D, and E airspace areas, air traffic service routes, and reporting points.

Differences From the NPRM

Subsequent to publication, the FAA discovered a typographic error in the geographic coordinates for the Niagara Falls Intl: RWY 28R-LOC contained in the Niagara Falls, NY, Class D airspace and Class E surface area airspace legal descriptions. These geographic coordinates have been corrected in this action.

The term “Notice to Airmen” has been updated to “Notice to Air Missions” since the NPRM was published. As this is an administrative amendment and does not affect the airspace as proposed in the NPRM, this update has been incorporated into this action.

The Rule

This amendment to Title 14 Code of Federal Regulations (14 CFR) part 71:

Amends the Class D airspace to within a 4.6-mile (increased from a 4.5-mile) radius of Niagara Falls International Airport, Niagara Falls, NY; amends the extension to 1 mile (decreased from 1.8 miles) each side of the 090° bearing from the Niagara Falls Intl: RWY 28R-LOC (previously KATHI LOM) extending from the 4.6-mile radius of the airport to 4.8 miles east of the airport; and replaces the outdated terms “Notice to Airmen” with “Notice to Air Missions” and “Airport/Facility Directory” with “Chart Supplement”;

Amends the Class E surface area airspace to within a 4.6-mile (increased from a 4.5-mile) radius of Niagara Falls International Airport, Niagara Falls, NY; amends the extension to 1 mile (decreased from 1.8 miles) each side of the 090° bearing from the Niagara Falls Intl: RWY 28R-LOC (previously KATHI LOM) extending from the 4.6-mile radius of the airport to 4.8 miles east of the airport; and replaces the outdated terms “Notice to Airmen” with “Notice to Air Missions” and “Airport/Facility Directory” with “Chart Supplement”;

And amends the Class E airspace extending upward from 700 feet above the surface to within a 7.5-mile (increased from a 6.7-mile) radius of Buffalo Niagara International Airport, Buffalo, NY; removes the extensions associated with Buffalo Niagara International Airport as they are no longer needed; updates the name and geographic coordinates of Buffalo Niagara International Airport (previously Greater Buffalo International Airport) to coincide with the FAA's aeronautical database; removes the Buffalo VORTAC from the airspace legal description as it is no longer needed; removes “and within the arc of a 10.5-mile radius circle from 052° to 112° clockwise, centered on a point, lat. 42°56′26″ N, long. 78°44′10″ W” as it is no longer needed; amends the Class E airspace extending upward from 700 feet above the surface to within a 7.1-mile (increased from a 7-mile) radius of Niagara Falls International Airport, contained within the Buffalo, NY, airspace legal description; amends the extension from Niagara Falls International Airport to within 8.2 miles north (increased from 7 miles) and 7 miles (increased from 5.2 miles) south of the 090° bearing from the KATHI NDB (previously Niagara Falls International Airport east localizer course) extending from the KATHI NDB (previously OM) to 16.8 miles (increased from 10.5 miles) east of the KATHI NDB (previously OM); removes the Niagara Falls International Airport East Localizer Course OM as it is no longer needed; updates the geographic coordinates of Niagara Falls International Airport to coincide with the FAA's aeronautical database; amends the Class E airspace extending upward from 700 feet above the surface to within a 6.3-mile (decreased from a 6.4-mile) radius of Akron Airport/Jesson Field, Akron, NY, contained within the Buffalo, NY, airspace legal description; removes the extension associated with Akron Airport/Jesson Field as it is no longer needed; updates the name and geographic coordinates of Akron Airport/Jesson Field (previously Akron Airport) to coincide with the FAA's aeronautical database; and establishes Class E airspace extending upward from 700 feet above the surface within a 6.3-mile radius of Buffalo-Lancaster Regional Airport, Lancaster, NY, which is contained within the Buffalo, NY, airspace legal description.

This action is the result of airspace reviews conducted to support the establishment of new instrument procedures at Buffalo-Lancaster Regional Airport.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11G, Airspace Designations and Reporting Points, dated August 19, 2022, and effective September 15, 2022, is amended as follows:

Paragraph 5000 Class D Airspace.

* * * * *

AEA NY D Niagara Falls, NY [Amended]

Niagara Falls International Airport, NY

(Lat. 43°06′27″ N, long. 78°56′45″ W)

Niagara Falls Intl: RWY 28R-LOC

(Lat. 43°06′34″ N, long. 78°58′19″ W)

That airspace extending upward from the surface to and including 3,100 feet MSL within a 4.6-mile radius of Niagara Falls International Airport, and within 1 mile each side of the 090° bearing from the Niagara Falls Intl: RWY 28R-LOC extending from the 4.6-mile radius to 4.8 miles east of the airport, excluding the portion outside the United States and that airspace which coincides with the Buffalo, NY, Class C airspace. This Class D airspace area is effective during specific dates and times established in advance by a Notice to Air Missions. The effective date and time will thereafter be published continuously in the Chart Supplement.

Paragraph 6002 Class E Airspace Areas Designated as Surface Areas.

* * * * *

AEA NY E2 Niagara Falls, NY [Amended]

Niagara Falls International Airport, NY

(Lat. 43°06′27″ N, long. 78°56′45″ W)

Niagara Falls Intl: RWY 28R-LOC

(Lat. 43°06′34″ N, long. 78°58′19″ W)

That airspace extending upward from the surface within a 4.6-mile radius of Niagara Falls International Airport, and within 1 mile each side of the 090° bearing from the Niagara Falls Intl: RWY 28R-LOC extending from the 4.6-mile radius to 4.8 miles east of the airport, excluding the portion outside the United States and that airspace which coincides with the Buffalo, NY, Class C airspace. This Class E airspace area is effective during specific dates and times established in advance by a Notice to Air Missions. The effective date and time will thereafter be published continuously in the Chart Supplement.

Paragraph 6005 Class E Airspace Areas Extending Upward From 700 Feet or More Above the Surface of the Earth.

* * * * *

AEA NY E5 Buffalo, NY [Amended]

Buffalo Niagara International Airport, NY

(Lat. 42°56′26″ N, long. 78°43′50″ W)

Niagara Falls International Airport, NY

(Lat. 43°06′27″ N, long. 78°56′45″ W)

KATHI NDB

(Lat. 43°06′33″ N, long. 78°50′18″ W)

Akron Airport/Jesson Field, NY

(Lat. 43°01′16″ N, long. 78°28′57″ W)

Buffalo-Lancaster Regional Airport, NY

(Lat. 42°55′19″ N, long. 78°36′43″ W)

Buffalo Airfield, NY

(Lat. 42°51′43″ N, long. 78°43′00″ W)

That airspace extending upward from 700 feet above the surface within a 7.5-mile radius of the Buffalo Niagara International Airport, and within a 7.1-mile radius of Niagara Falls International Airport, and within 8.2 miles north and 7 miles south of the 090° bearing from the KATHI NDB extending from the KATHI NDB to 16.8 miles east of the KATHI NDB, and within a 6.3-mile radius of Akron Airport/Jesson Field, and within a 6.3-mile radius of Buffalo-Lancaster Regional Airport, and within a 6.3-mile radius of Buffalo Airfield.

Issued in Fort Worth, Texas, on September 28, 2022.
Martin A. Skinner,
Acting Manager, Operations Support Group, ATO Central Service Center.

[FR Doc. 2022-21433 Filed 10-4-22; 8:45 am]

BILLING CODE 4910-13-P